DEPARTMENT OF VETERANS AFFAIRS

Privacy Act of 1974

AGENCY: Department of Veterans Affairs (VA).

ACTION: Notice of new system of records.

SUMMARY: The Privacy Act of 1974 (5 U.S.C. 552(e)(4)) requires that all agencies publish in the Federal Register a notice of the existence and character of their systems of records. Notice is hereby given that the Department of Veterans Affairs (VA) is establishing a new system of records entitled “VHA Corporate Data Warehouse-VA” (172VA10P2).

DATES: Comments on this new system of records must be received no later than February 26, 2014. If no public comment is received during the period allowed for comment or unless otherwise published in the Federal Register by VA, the new system will become effective February 26, 2014.

ADDRESSES: Written comments concerning the proposed amended system of records may be submitted by: mail or hand-delivery to Director, Regulations Management (02REG), Department of Veterans Affairs, 810 Vermont Avenue NW., Room 1068, Washington, DC 20420; fax to (202) 273-9026; or email to http://www.Regulations.gov. All comments received will be available for public inspection in the Office of Regulation Policy and Management, Room 1063B, between the hours of 8 a.m. and 4:30 p.m., Monday through Friday (except holidays). Please call (202) 461-4902 (this is not a toll-free number) for an appointment.

FOR FURTHER INFORMATION CONTACT: Veterans Health Administration (VHA) Privacy Officer, Department of Veterans Affairs, 810 Vermont Avenue NW., Washington, DC 20420; telephone (704) 245-2492.

SUPPLEMENTARY INFORMATION: Background: VHA is the largest health care provider in the country. In order to maintain this organization, VHA collects patient health data, financial data, employee data, and patient entered data for patient care, decision support, population studies, research, behavior profiling, workflow integration and other business intelligence applications. The data is entered and stored in the appropriate system of record.

I. Description of Proposed Systems of Records: The proposed system of record identifies data warehouses that contains health information such as patient assessments, diagnoses, treatments, tests, and pharmaceutical data. The records include information created or collected during the course of normal clinical and administrative work and is provided by employees, students, volunteers, caregivers, contractors, subcontractors, and consultants. It also contains patient self-entered data and patient financial information provided by patients or other governmental agencies.

All data collected by the organization and centrally stored in the Corporate Data Warehouse (CDW) provides a central source of data that supports the delivery of health care, supports management decision making, allows for performance measurement, and provides a rich resource for VHA research. The CDW is located in Austin, Texas. VA delivers information technology support by dividing the United States into four regions. Each region contains a regional data warehouse (RDW) that may contain some or all of the CDW content.

VHA uses data stored in data warehouses to prepare various management, tracking, and follow-up reports necessary for the effective operation of VHA as it plans for and then delivers quality health care, which includes evaluating patient eligibility, benefits and care services; monitoring the distribution and utilization of resources including provider panel management; tracking disease and patient outcomes; program review, accreditation and licensing; quality assurance audits and investigations; law enforcement investigations; and measuring Veterans Integrated Service Network (VISN) performance. The data may be used to validate labor policies and practices and be extracted or interrogated by VA researchers in accordance with established protocols. The data warehouses covered by this system of records are identified and listed with their physical location in Appendix A.

II. Proposed Routine Use Disclosures of Data in the System: To the extent that records contained in the system include information protected by 38 U.S.C. 7332, (i.e., medical treatment information related to drug abuse, alcoholism or alcohol abuse, sickle cell anemia or infection with the human immunodeficiency virus), that information cannot be disclosed under a routine use unless there is also specific statutory authority permitting disclosure.

VHA is proposing the following routine use disclosures of information to be maintained in the system:

1. On its own initiative, VA may disclose information, except for the names and home addresses of veterans and their dependents, to a Federal, State, local, tribal, or foreign agency charged with the responsibility of investigating or prosecuting civil, criminal or regulatory violations of law, or charged with enforcing or implementing the statute, regulation, rule or order issued pursuant thereto. On its own initiative, VA may also disclose the names and addresses of veterans and their dependents to a Federal agency charged with the responsibility of investigating or prosecuting civil, criminal or regulatory violations of law, or charged with enforcing or implementing the statute, regulation, rule or order issued pursuant thereto. VA must be able to comply with the requirements of agencies charged with enforcing the law and conducting investigations. VA must also be able to provide information to State or local agencies charged with protecting the public's health as set forth in State law.

2. Disclosure may be made to any source from which additional information is requested (to the extent necessary to identify the individual, inform the source of the purpose(s) of the request, and to identify the type of information requested), when necessary to obtain information relevant to an individual's eligibility, care history, or other benefits.

3. Disclosure may be made to an agency in the executive, legislative, or judicial branch, or the District of Columbia's government in response to its request or at the initiation of VA, in connection with disease-tracking, patient outcomes, bio-surveillance, or other health information required for program accountability.

4. The record of an individual who is covered by a system of records may be disclosed to a Member of Congress, or a staff person acting for the Member, when the Member or staff person requests the record on behalf of and at the written request of the individual. Individuals sometimes request the help of a Member of Congress in resolving some issues relating to a matter before VA. The Member of Congress then writes to VA, and VA must be able to give sufficient information to give an appropriate response to the inquiry.

5. Disclosure may be made to the National Archives and Records Administration (NARA) and the General Services Administration (GSA) in records management inspections conducted under authority of Title 44, Chapter 29, U.S.C. NARA and GSA are responsible for management of old records no longer actively used, but which may be appropriate for preservation, and for the physical maintenance of the Federal Government's records. VA must be able to provide the records to NARA and GSA in order to determine the proper disposition of such records.

6. VA may disclose information from this system of records to the Department of Justice (DOJ), either on VA's initiative or in response to DOJ's request for the information, after either VA or DOJ determines that such information is relevant to DOJ's representation of the United States or any of its components in legal proceedings before a court or adjudicative body, provided that, in each case, the agency also determines prior to disclosure that release of the records to the DOJ is a use of the information contained in the records that is compatible with the purpose for which VA collected the records. VA, on its own initiative, may disclose records in this system of records in legal proceedings before a court or administrative body after determining that the disclosure of the records to the court or administrative body is a use of the information contained in the records that is compatible with the purpose for which VA collected the records.

7. Records from this system of records may be disclosed to a Federal agency or to a State or local government licensing board and/or to the Federation of State Medical Boards or a similar non-government entity which maintains records concerning individuals' employment histories or concerning the issuance, retention or revocation of licenses, certifications, or registration necessary to practice an occupation, profession or specialty, in order for the agency to obtain information relevant to an agency decision concerning the hiring, retention or termination of an employee.

8. Records from this system of records may be disclosed to inform a Federal agency, licensing boards or the appropriate non-government entities about the health care practices of a terminated, resigned or retired health care employee whose professional health care activity so significantly failed to conform to generally accepted standards of professional medical practice as to raise reasonable concern for the health and safety of patients receiving medical care in the private sector or from another Federal agency.

9. For program review purposes and the seeking of accreditation and/or certification, disclosure may be made to survey teams of the Joint Commission (JC), College of American Pathologists, American Association of Blood Banks, and similar national accreditation agencies or boards with whom VA has a contract or agreement to conduct such reviews but only to the extent that the information is necessary and relevant to the review. VA health care facilities undergo certification and accreditation by several national accreditation agencies or boards to comply with regulations and good medical practices. VA must be able to disclose information for program review purposes and the seeking of accreditation and/or certification of health care facilities and programs.

10. Disclosure may be made to a national certifying body which has the authority to make decisions concerning the issuance, retention or revocation of licenses, certifications or registrations required to practice a health care profession, when requested in writing by an investigator or supervisory official of the national certifying body for the purpose of making a decision concerning the issuance, retention or revocation of the license, certification or registration of a named health care professional. VA must be able to report information regarding the care a health care practitioner provides to a national certifying body charged with maintaining the health and safety of patients by making a decision about a health care professional's license, certification or registration, such as issuance, retention, revocation, suspension or other actions.

11. Disclosure may be made to officials of labor organizations recognized under 5 U.S.C. chapter 71 when relevant and necessary to their duties of exclusive representation concerning personnel policies, practices, and matters affecting working conditions.

12. Disclosure may be made to the VA-appointed representative of an employee of all notices, determinations, decisions, or other written communications issued to the employee in connection with an examination ordered by VA under medical evaluation (formerly fitness-for-duty) examination procedures or Department-filed disability retirement procedures.

13. VA may disclose information to officials of the Merit Systems Protection Board (MSPB), or the Office of Special Counsel, when requested in connection with appeals, special studies of the civil service and other merit systems, review of rules and regulations, investigation of alleged or possible prohibited personnel practices, and such other functions, promulgated in 5 U.S.C. 1205 and 1206, or as authorized by law.

14. VA may disclose information to the Equal Employment Opportunity Commission (EEOC) when requested in connection with investigations of alleged or possible discriminatory practices, examination of Federal affirmative employment programs, or for other functions of the EEOC as authorized by law or regulation. VA must be able to provide information to the EEOC to assist it in fulfilling its duties to protect employee's rights, as required by statute and regulation.

15. VA may disclose to the Fair Labor Relations Authority (FLRA) (including its General Counsel) information related to the establishment of jurisdiction, the investigation and resolution of allegations of unfair labor practices, or information in connection with the resolution of exceptions to arbitration awards when a question of material fact is raised; to disclose information in matters properly before the Federal Services Impasse Panel, and to investigate representation petitions and conduct or supervise representation elections. VA must be able to provide information to FLRA to comply with the statutory mandate under which it operates.

16. Disclosure of health record data, excluding name and address, unless name and address is furnished by the requester, may be made to epidemiological and other research facilities for research purposes determined to be necessary and proper when approved in accordance with VA policy.

17. Disclosure of name(s) and address(s) of present or former personnel of the armed services, and/or their dependents, may be made to: (a) A Federal department or agency, at the written request of the head or designee of that agency; or (b) directly to a contractor or subcontractor of a Federal department or agency, for the purpose of conducting Federal research necessary to accomplish a statutory purpose of an agency. When disclosure of this information is made directly to a contractor, VA may impose applicable conditions on the department, agency, and/or contractor to ensure the appropriateness of the disclosure to the contractor.

18. Disclosures of relevant information may be made to individuals, organizations, private or public agencies, or other entities with whom VA has a contract or agreement, or where there is a subcontract to perform the services as VA may deem practicable for the purposes of laws administered by VA, in order for the contractor or subcontractor to perform the services of the contract or agreement. This routine use includes disclosures by the individual or entity performing the service for VA to any secondary entity or individual to perform an activity that is necessary for individuals, organizations, private or public agencies, or other entities or individuals with whom VA has a contract or agreement to provide service to VA.

19. Disclosure to other Federal agencies may be made to assist such agencies in preventing and detecting possible fraud or abuse by individuals in their operations and programs.

20. VA may, on its own initiative, disclose any information or records to appropriate agencies, entities, and persons when: (1) VA suspects or has confirmed that the integrity or confidentiality of information in the system of records has been compromised; (2) VA has determined that as a result of the suspected or confirmed compromise, there is a risk of embarrassment or harm to the reputations of the record subjects, harm to economic or property interests, identity theft or fraud, or harm to the security, confidentiality, or integrity of this system or other systems or programs (whether maintained by VA or another agency or entity) that rely upon the potentially compromised information; and (3) the disclosure is to agencies, entities, or persons whom VA determines are reasonably necessary to assist or carry out VA's efforts to respond to the suspected or confirmed compromise and prevent, minimize, or remedy such harm. This routine use permits disclosures by VA to respond to a suspected or confirmed data breach, including the conduct of any risk analysis or provision of credit protection services as provided in 38 U.S.C. 5724, as the terms are defined in 38 U.S.C. 5727.

21. VA may disclose information from this system to a Federal agency for the purpose of conducting research and data analysis to perform a statutory purpose of that Federal agency upon the prior written request of that agency, provided that there is legal authority under all applicable confidentiality statutes and regulations to provide the data and VA has determined prior to the disclosure that VA data handling requirements are satisfied.

22. VA may disclose information from this system of records to the Office of Management and Budget (OMB) for the performance of its statutory responsibilities for evaluating Federal programs. VA must be able to provide information to OMB to assist it in fulfilling its duties as required by statute and regulation.

23. VA may disclose this information to the Department of Defense (DoD) for joint ventures between the two Departments to promote improved patient care, better health care resource utilization, and formal research studies.

III. Compatibility of the Proposed Routine Uses: The Privacy Act permits VA to disclose information about individuals without their consent for a routine use, when the information will be used for a purpose that is compatible with the purpose for which VA collected the information. In all of the routine use disclosures described above, either the recipient of the information will use the information in connection with a matter relating to one of VA's programs, will use the information to provide a benefit to VA, or disclosure is required by law.

The notice of intent to publish an advance copy of the system notice have been sent to the appropriate Congressional committees and to the Director of the Office of Management and Budget (OMB) as required by 5 U.S.C. 552a(r) (Privacy Act) and guidelines issued by OMB (65 FR 77677), December 12, 2000.

Approved: December 20, 2013.
Jose D. Riojas,
Chief of Staff, Department of Veterans Affairs.

172VA10P2

SYSTEM NAME:

“VHA Corporate Data Warehouse-VA”

SYSTEM LOCATION:

CDW is located at the VA Corporate Data Center Operations, Austin Information Technology Center, 1615 Woodward Street, Austin, TX 78772.

CATEGORIES OF INDIVIDUALS COVERED BY THE SYSTEM:

The records contain information for all individuals

(1) receiving health care from VHA;

(2) receiving health care from DoD;

(3) providing the health care;

(4) or working for VA or DoD.

Individuals encompass Veterans, members of the armed services, current and former employees, trainees, caregivers, contractors, sub-contractors, consultants, volunteers, and other individuals working collaboratively with VA.

CATEGORIES OF RECORDS IN THE SYSTEM:

The records may include information related to:

1. Patient health record detailed information, including information from Patient Health Record—VA (24VA10P2) and Patient National Databases—VA (121VA10P2).

2. The record may include identifying information (e.g., name, birth date, death date, admission date, discharge date, gender, social security number, taxpayer identification number); address information (e.g., home and/or mailing address, home telephone number, emergency contact information such as name, address, telephone number, and relationship); prosthetic and sensory aid serial numbers; health record numbers; integration control numbers; information related to medical examination or treatment (e.g., location of VA medical facility providing examination or treatment, treatment dates, medical conditions treated or noted on examination); information related to military service and status;

3. Patient health insurance information; including information from Revenue Program Billing and Collection Records—VA (114VA16)

4. Medical benefit and eligibility information; including information from Revenue Program Billing and Collection Records—VA (114VA16)

5. Patient aggregate workload data such as admissions, discharges, and outpatient visits; resource utilization such as laboratory tests, x-rays, pharmaceuticals, prosthetics and sensory aids; employee workload and productivity data;

6. Information on services or products needed in the provision of medical care (i.e. pacemakers, prosthetics, dental implants, hearing aids, etc.) data collected may include vendor name and address, details about and/or evaluation of service or product, price/fee, dates purchased and delivered;

7. Health care practitioners' identification number;

8. Employees salary and benefit information;

9. Financial Information from the Financial Management System;

10. Human resource information including employee grade, salary, and tour of duty;

11. Compensation and pension determinations, Veteran eligibility, and other information associated administering Veteran benefits by the Veterans Benefit Administration;

12. Data from other Federal agencies;

13. Patient self-entered data (online forms, etc).

AUTHORITY FOR MAINTENANCE OF THE SYSTEM:

Title 38, United States Code, Section 501.

PURPOSE(S):

The records and information may be used for clinical decision support, mobile applications presenting patient data, statistical analysis to produce various management, workload tracking, and follow-up reports; to track and evaluate the ordering and delivery of equipment, services and patient care; for the planning, distribution and utilization of resources; to monitor the performance of VISNs; and to allocate clinical and administrative support to patient medical care. The data may be used for VA's extensive research programs in accordance with VA policy and to monitor for bio-terrorist activity. In addition, the data may be used to assist in workload allocation for patient treatment services including provider panel management, nursing care, clinic appointments, surgery, diagnostic and therapeutic procedures; to plan and schedule training activities for employees; for audits, reviews and investigations conducted by the Network Directors Office and VA Central Office; for quality assurance audits, reviews and investigations; for law enforcement investigations; and for personnel management, evaluation and employee ratings, and performance evaluations.

ROUTINE USES OF RECORDS MAINTAINED IN THE SYSTEM, INCLUDING CATEGORIES OF USERS AND THE PURPOSES OF SUCH USES:

To the extent that records contained in the system include information protected by 38 U.S.C. 7332, i.e., medical treatment information related to drug abuse, alcoholism or alcohol abuse, sickle cell anemia or infection with the human immunodeficiency virus, that information cannot be disclosed under a routine use unless there is also specific statutory authority permitting disclosure.

1. On its own initiative, VA may disclose information, except for the names and home addresses of veterans and their dependents, to a Federal, State, local, tribal or foreign agency charged with the responsibility of investigating or prosecuting civil, criminal or regulatory violations of law, or charged with enforcing or implementing the statute, regulation, rule or order issued pursuant thereto. On its own initiative, VA may also disclose the names and addresses of veterans and their dependents to a Federal agency charged with the responsibility of investigating or prosecuting civil, criminal or regulatory violations of law, or charged with enforcing or implementing the statute, regulation, rule or order issued pursuant thereto.

2. Disclosure may be made to any source from which additional information is requested (to the extent necessary to identify the individual, inform the source of the purpose(s) of the request, and to identify the type of information requested), when necessary to obtain information relevant to an individual's eligibility, care history, or other benefits.

3. Disclosure may be made to an agency in the executive, legislative, or judicial branch, or the District of Columbia's government in response to its request or at the initiation of VA, in connection with disease-tracking, patient outcomes, bio-surveillance, or other health information required for program accountability.

4. The record of an individual who is covered by a system of records may be disclosed to a Member of Congress, or a staff person acting for the Member, when the Member or staff person requests the record on behalf of and at the written request of the individual. Individuals sometimes request the help of a Member of Congress in resolving some issues relating to a matter before VA.

5. Disclosure may be made to NARA and GSA in records management inspections conducted under authority of Title 44, Chapter 29, of the U.S.C. NARA and GSA are responsible for management of old records no longer actively used, but which may be appropriate for preservation, and for the physical maintenance of the Federal Government's records.

6. VA may disclose information from this system of records to the DOJ, either on VA's initiative or in response to DOJ's request for the information, after either VA or DOJ determines that such information is relevant to DOJ's representation of the United States or any of its components in legal proceedings before a court or adjudicative body, provided that, in each case, the agency also determines prior to disclosure that release of the records to the DOJ is a use of the information contained in the records that is compatible with the purpose for which VA collected the records.

7. Records from this system of records may be disclosed to a Federal agency or to a State or local government licensing board and/or to the Federation of State Medical Boards or a similar non-government entity which maintains records concerning individuals' employment histories or concerning the issuance, retention or revocation of licenses, certifications, or registration necessary to practice an occupation, profession or specialty, in order for the agency to obtain information relevant to an agency decision concerning the hiring, retention or termination of an employee.

8. Records from this system of records may be disclosed to inform a Federal agency, licensing boards or the appropriate non-government entities about the health care practices of a terminated, resigned or retired health care employee whose professional health care activity so significantly failed to conform to generally accepted standards of professional medical practice, as to raise reasonable concern for the health and safety of patients receiving medical care in the private sector or from another Federal agency.

9. For program review purposes and the seeking of accreditation and/or certification, disclosure may be made to survey teams of the JC, College of American Pathologists, American Association of Blood Banks, and similar national accreditation agencies or boards with whom VA has a contract or agreement to conduct such reviews but only to the extent that the information is necessary and relevant to the review. VA health care facilities undergo certification and accreditation by several national accreditation agencies or boards to comply with regulations and good medical practices.

10. Disclosure may be made to a national certifying body which has the authority to make decisions concerning the issuance, retention or revocation of licenses, certifications or registrations required to practice a health care profession, when requested in writing by an investigator or supervisory official of the national certifying body for the purpose of making a decision concerning the issuance, retention or revocation of the license, certification or registration of a named health care professional.

11. Disclosure may be made to officials of labor organizations recognized under 5 U.S.C. Chapter 71, when relevant and necessary to their duties of exclusive representation concerning personnel policies, practices, and matters affecting working conditions.

12. Disclosure may be made to the VA-appointed representative of an employee of all notices, determinations, decisions, or other written communications issued to the employee in connection with an examination ordered by VA under medical evaluation (formerly fitness-for-duty) examination procedures or Department-filed disability retirement procedures.

13. VA may disclose information to officials of the MSPB, or the Office of Special Counsel, when requested in connection with appeals, special studies of the civil service and other merit systems, review of rules and regulations, investigation of alleged or possible prohibited personnel practices, and such other functions, promulgated in 5 U.S.C. 1205 and 1206, or as authorized by law.

14. VA may disclose information to the EEOC when requested in connection with investigations of alleged or possible discriminatory practices, examination of Federal affirmative employment programs, or for other functions of the EEOC as authorized by law or regulation.

15. VA may disclose to the FLRA (including its General Counsel) information related to the establishment of jurisdiction, the investigation and resolution of allegations of unfair labor practices, or information in connection with the resolution of exceptions to arbitration awards when a question of material fact is raised; to disclose information in matters properly before the Federal Services Impasse Panel, and to investigate representation petitions and conduct or supervise representation elections.

16. Disclosure of health record data, excluding name and address, unless name and address is furnished by the requester, may be made to epidemiological and other research facilities for research purposes determined to be necessary and proper when approved in accordance with VA policy.

17. Disclosure of name(s) and address(s) of present or former personnel of the armed services, and/or their dependents, may be made to: (a) A Federal department or agency, at the written request of the head or designee of that agency; or (b) directly to a contractor or subcontractor of a Federal department or agency, for the purpose of conducting Federal research necessary to accomplish a statutory purpose of an agency. When disclosure of this information is made directly to a contractor, VA may impose applicable conditions on the department, agency, and/or contractor to insure the appropriateness of the disclosure to the contractor.

18. Disclosures of relevant information may be made to individuals, organizations, private or public agencies, or other entities with whom VA has a contract or agreement or where there is a subcontract to perform the services as VA may deem practicable for the purposes of laws administered by VA, in order for the contractor or subcontractor to perform the services of the contract or agreement. This routine use includes disclosures by the individual or entity performing the service for VA to any secondary entity or individual to perform an activity that is necessary for individuals, organizations, private or public agencies, or other entities or individuals with whom VA has a contract or agreement to provide the service to VA.

19. Disclosure to other Federal agencies may be made to assist such agencies in preventing and detecting possible fraud or abuse by individuals in their operations and programs.

20. VA may, on its own initiative, disclose any information or records to appropriate agencies, entities, and persons when: (1) VA suspects or has confirmed that the integrity or confidentiality of information in the system of records has been compromised; (2) VA has determined that as a result of the suspected or confirmed compromise, there is a risk of embarrassment or harm to the reputations of the record subjects, harm to economic or property interests, identity theft or fraud, or harm to the security, confidentiality, or integrity of this system or other systems or programs (whether maintained by VA or another agency or entity) that rely upon the potentially compromised information; and (3) the disclosure is to agencies, entities, or persons whom VA determines are reasonably necessary to assist or carry out VA's efforts to respond to the suspected or confirmed compromise and prevent, minimize, or remedy such harm. This routine use permits disclosures by VA to respond to a suspected or confirmed data breach, including the conduct of any risk analysis or provision of credit protection services as provided in 38 U.S.C. 5724, as the terms are defined in 38 U.S.C. 5727.

21. VA may disclose information from this system to a Federal agency for the purpose of conducting research and data analysis to perform a statutory purpose of that Federal agency upon the prior written request of that agency, provided that there is legal authority under all applicable confidentiality statutes and regulations to provide the data and VA has determined prior to the disclosure that VA data handling requirements are satisfied.

22. VA may disclose information from this system of records to OMB for the performance of its statutory responsibilities for evaluating Federal programs. VA must be able to provide information to OMB to assist it in fulfilling its duties as required by statute and regulation.

23. VA may disclose this information to the DoD for joint ventures between the two Departments to promote improved patient care, better health care resource utilization, and formal research studies.

POLICIES AND PRACTICES FOR STORING, RETRIEVING, ACCESSING, RETAINING, AND DISPOSING OF RECORDS IN THE SYSTEM:

STORAGE:

Records are maintained on Storage Area Networks.

RETRIEVABILITY:

Records are retrieved by name, social security number, or other assigned identifiers of the individuals on whom they are maintained.

SAFEGUARDS:

1. Access to and use of data warehouses are limited to those persons whose official duties require such access, and the VA has established security procedures to ensure that access is appropriately limited. Information security officers and system data stewards review and authorize data access requests. VA regulates data warehouse access with security software that relies on network authentication. VA requires information security training to all staff and instructs staff on the responsibility each person has for safeguarding data confidentiality.

2. Physical access to computer rooms housing data warehouses are restricted to authorized staff and protected by a variety of security devices. Unauthorized employees, contractors, and other staff are not allowed in computer rooms.

3. Data transmissions between operational systems and data warehouses maintained by this system of record are protected by state of the art telecommunication software and hardware. This may include firewalls, intrusion detection devices, encryption, and other security measures necessary to safeguard data as it travels across the VA Wide Area Network.

4. In most cases, copies of back-up computer files are maintained at off-site locations.

RETENTION AND DISPOSAL:

Records are maintained and disposed of in accordance with records disposition authority approved by the Archivist of the United States. The records are disposed of in accordance with General Records Schedule 20, item 4.

Item 4 provides for deletion of data files when the agency determines that the files are no longer needed for administrative, legal, audit, or other operational purposes.

SYSTEM MANAGER(S) AND ADDRESS:

Officials responsible for policies and procedures; Assistant Deputy Under Secretary for Health for Informatics and Analytics (10P2), Department of Veterans Affairs, 810 Vermont Avenue NW., Washington, DC 20420. Officials maintaining this system of records; Director, National Data Systems (10P2C), Austin Information Technology Center, 1615 Woodward Street, Austin, Texas 78772.

NOTIFICATION PROCEDURE:

Individuals who wish to determine whether this system of records contains information about them should contact the Director of National Data Systems (10P2C), Austin Information Technology Center, 1615 Woodward Street, Austin, Texas 78772. Inquiries should include the person's full name, social security number, location and dates of employment or location and dates of treatment, and their return address.

RECORD ACCESS PROCEDURE:

Individuals seeking information regarding access to and contesting of records in this system may write or call the Director of VHA National Data Systems (10P2C), located at the VA Corporate Data Center Operations, Austin Campus, 1615 Woodward Street, Austin, Texas 78772, or call the VA National Service Desk and ask to speak with the VHA Director of National Data Systems at (512) 326-6780.

CONTESTING RECORD PROCEDURES:

(See Record Access Procedures above.)

RECORD SOURCE CATEGORIES:

Information in this system of records is provided by veterans, VA employees, VA computer systems, Veterans Health Information Systems and Technology Architecture (VistA), VA Medical Centers, VA Program Offices, VISNs, DoD, other Federal Agencies.

VA Appendix A

Database name | Location
Corporate Data Warehouse | Austin Information Technology Center, 1615 Woodward Street, Austin, TX 78772.
Regional Data Warehouses (RDW) | Region 1 Data Warehouse, Herakles Data Center, 1100 North Market Blvd, Sacramento, CA 95834.
Region 2 Data Warehouse | Little Rock VA Medical Center, IRM/Bldg 102, 2200 Ft. Roots Drive, North Little Rock, AR 72114.
Region 3 Data Warehouse | Durham VAMC, 508 Fulton Street, Durham, NC 27705.
Region 4 Data Warehouse | Sungard Availability Services, 401 N. Broad Street, Suite 11.803, Philadelphia, PA 19108.
Veterans Informatics, Information and Computing Infrastructure (VINCI) | Austin Information Technology Center 1615 Woodward Street Austin, TX 78772.

[FR Doc. 2014-01497 Filed 1-24-14; 8:45 am]

BILLING CODE 8320-01-P